DEPARTMENT OF DEFENSE

Department of the Army

Preparation of an Environmental Impact Statement (EIS) for Force Transformation of the 2nd Brigade, 25th Infantry Division (Light) Hawaii

AGENCY: Department of the Army, DoD.

ACTION: Notice of intent.

SUMMARY: The Army proposes to implement a range of activities related to force transformation in Hawaii. The primary proposed activities are associated with conversion of the 2nd Brigade, 25th Infantry Division (Light) to an Interim Brigade Combat Team (IBCT), a rapidly deployable, early entry, medium weight force with a decreased logistical footprint. Impacts to the human environment, to include surrounding communities, from restructuring and from enhancing associated ranges, facilities, and infrastructure to meet Army Transformation objectives will be analyzed.

FOR FURTHER INFORMATION CONTACT: Transformation Information: Mr. Ronald Borne, (808) 656-2878, extension 1122; by fax (808) 656-8200; by mail at Commander, U.S. Army Garrison, Hawaii, ATTN: APVG-GCT (Borne), Stop 518, Schofield Barracks, Hawaii 96797; or by e-mail: ronald.borne@schofield.army.mil.

EIS Information: Mr. Earl Nagasawa, (808) 438-0772; by fax (808) 438-7801; by mail at U.S. Army Corps of Engineers, Honolulu Engineer District, Program and Project Management Division, Attn: CEPOH-PP-E (Nagasawa), Building 252, Fort Shafter, Hawaii 96858-5440; or by e-mail at earl.nagasawa@usace.army.mil.

SUPPLEMENTARY INFORMATION: The proposed action would result in changes to various military lands in Hawaii. Categories of proposed activities include: (1) Fielding of new or modified weapon systems, armored vehicles and equipment; (2) Construction activities including erection of buildings, training facilities and infrastructure, and renovation or demolition of buildings and facilities at military installations located on the islands of Oahu and Hawaii; (3) Land transactions (acquisition, asset management and disposal); (4) Deployment of forces and specific training for deployment; (5) Training to achieve and maintain readiness to perform assigned missions; (6) Other actions necessary to support a net increase in troops and vehicles to be assigned to the 2nd Brigade, 25th Infantry Division.

Proposed Action: The Proposed Action specifically entails transformation of the 2nd Brigade, 25th Infantry Division (Light) to an IBCT with proposed changes to ranges, facilities, and infrastructure at military installations in Hawaii to support the IBCT operation and training. Proposed activities include land transactions and construction and use of vehicle wash facilities, training and qualification ranges, installation information infrastructure and facilities enhancements, virtual and live training facilities upgrades, motor pool and range control/maintenance facilities, Army airfield upgrades, an anti-armor course, and an ammunition storage area. The remaining non-IBCT units will also use these new facilities as well as existing infrastructure.

Alternatives: (1) Transformation of the 2nd Brigade, 25th Infantry Division (Light) to an IBCT with a range of supporting activities including new, additional, or modified ranges, facilities and infrastructure; (2) Transformation of the 2nd Brigade, 25th Infantry Division (Light) to an IBCT using existing facilities and infrastructure in Hawaii as they are now configured; (3) No Action (No. transformation to an IBCT in the near term).

Other alternatives that may be raised during the scoping process will be considered.

Publication of this NOI does not foreclose consideration of any courses of actions or possible decisions addressed by the Department of Army in its Draft Programmatic Environmental Impact Statement (PEIS) for Army Transformation, dated June 2001. No final decisions will be made regarding transformation in Alaska prior to completion and signature of the Record of Decision for the PEIS for Army Transformation.

Scoping Process: Federal, state, and local agencies and the public are invited to participate in the scoping process for the completion of this EIS. The scoping process will help the Army in identifying potential impacts to the quality of the human environment. Scoping meetings will be held at various locations on the islands of Oahu and Hawaii. Notification of the times and locations for the scoping meetings will be published in local newspapers. Written comments identifying potential impacts to be analyzed in the EIS will be accepted within 30 days of the scoping meetings. Written comments may be fowarded to Mr. Earl Nagasawa at the above address.

Dated: February 25, 2002.
Raymond J. Fatz,
Deputy Assistant Secretary of the Army (Environment, Safety and Occupation Health), OASA (I&E).

[FR Doc. 02-5084 Filed 3-1-02; 8:45 am]

BILLING CODE 3710-08-M